DEPARTMENT OF HOUSING AND URBAN DEVELOPMENT

[Docket No. FR-5130-N-10]

Privacy Act of 1974; Supplemental Information and Technical Correction to Notice of Computer Matching Program Between the Department of Housing and Urban Development (HUD) and the Department of Health and Human Services (HHS)—Matching Tenant Data in Assisted Housing Programs

AGENCY: Office of the Chief Information Officer, HUD.

ACTION: Notice of Supplementary Information and Technical Corrections.

SUMMARY: This notice provides Supplementary Information and Technical Corrections to the Computer Matching Notice published in the Federal Register on August 8, 2006. This information changes the anticipated effective date of the computer matching program; removes the term “applicants” cited in the prior notice since disclosure of applicant information is not authorized; provides date and pertinent information about HUD's statutorily required evaluation document and its Enterprise Income Verification (EIV) system; provides citations for HUD requirements described in the prior notice; and, clarifies the system of records in the program description and records to be matched. The authority, objectives, and the period of the match under the existing HUD and HHS computer matching program remain unchanged. A more detailed description about the current matching program is contained in the Supplemental Information section.

DATES: Effective Date: The effective date of the matching program shall be October 9, 2007, providing no comments are received which would result in a contrary determination or 40 days after notice of the matching program is provided to the Office of Management and Budget (OMB) and Congress, whichever is later.

Comments Due Date: October 9, 2007.

FOR FURTHER INFORMATION CONTACT: The Departmental Privacy Act Officer, Department of Housing and Urban Development, 451 Seventh Street, SW, Room 4178, Washington, DC 20410-3000, telephone number (202) 708-2374. A telecommunications device for hearing- and speech-impaired individuals (TTY) is available at (800) 877-8339 (Federal Information Relay Service). For program information: Gail Williamson, Office of Housing, Director of the Housing Assistance Policy Division, Department of Housing and Urban Development, 451 Seventh Street, SW, Room 6138, Washington, DC 20410, telephone number (202) 708-3000, ext. 2473.

SUPPLEMENTARY INFORMATION: The matching program will be carried out only to the extent necessary to: (1) Verify the employment and income of individuals participating in the programs identified below to correctly determine the amount of their rent and level of rental assistance; and (2) after removal of personal identifiers, to conduct analyses of the employment and income reporting of individuals participating in HUD's rental assistance programs. Currently, HUD makes the results of the computer match available to public housing agencies (PHAs) administering HUD rental assistance programs to enable them to verify employment and income and correctly determine the rent and assistance levels for individuals participating in those programs. This information is also being disclosed to the HUD Inspector General (HUD/IG), and the Attorney General in connection with the administration of the programs identified below.

Based on (1) an evaluation of the costs and benefits of disclosures made to PHAs; and (2) the adequacy of measures used to safeguard the security and confidentiality of information so disclosed, HUD will disclose employment and income information of tenants to private housing owners and management agents (O/As) and contract administrators (CAs) that administer HUD rental assistance programs under agreements with HUD. The evaluation was conducted by HUD and signed by HUD and Office of Child Support Enforcement (OCSE) authorized officials on May 11, 2007. HUD and its third party administrators will use this matching authority to reduce or eliminate improper assistance payments in the housing programs authorized by:

(i) The United States Housing Act of 1937 (42 U.S.C. 1437 et seq.);

(ii) Section 202 of the Housing Act of 1959 (12 U.S.C. 1701q);

(iii) Section 221(d)(3), 221(d)(5) or 236 of the National Housing Act (12 U.S.C. 1715l d and 1715z-1);

(iv) Section 811 of the Cranston-Gonzalez National Affordable Housing Act (42 U.S.C. 8013); or

(v) Section 101 of the Housing and Urban Development Act of 1965 (12 U.S.C. 1701s).

The Computer Matching and Privacy Protection Act (CMPPA) of 1988, an amendment to the Privacy Act of 1974 (5 U.S.C. 552a), OMB's guidance on this statute entitled “Final Guidance Interpreting the Provisions of Public Law 100-503,” and OMB Circular No. A-130 require publication of notices of computer matching programs. Appendix I to OMB's Revision of Circular No. A-130, “Transmittal Memorandum No. 4, Management of Federal Information Resources,” prescribes Federal agency responsibilities for maintaining records about individuals. In accordance with the CMPPA and Appendix I to OMB Circular No. A-130, copies of this notice are being provided to the Committee on Oversight and Government Reform of the House of Representatives, the Committee on Homeland Security and Governmental Affairs of the United States Senate, and OMB's Office of Information and Regulatory Affairs.

I. Authority

This matching program is being conducted pursuant to section 453(j)(7) of the Social Security Act; sections 3003 and 13403 of the Omnibus Budget Reconciliation Act of 1993 (Pub. L. 103-66, approved August 10, 1993); section 542(b) of the 1998 Appropriations Act (Pub. L. 105-65); section 904 of the Stewart B. McKinney Homeless Assistance Amendments Act of 1988 (42 U.S.C. 3544); section 165 of the Housing and Community Development Act of 1987 (42 U.S.C. 3543); the National Housing Act (12 U.S.C. 1701-1750g); the United States Housing Act of 1937 (42 U.S.C. 1437-1437z); section 101 of the Housing and Community Development Act of 1965 (12 U.S.C. 1701s); the Native American Housing Assistance and Self-Determination Act of 1996 (25 U.S.C. 4101 et seq.); and the Quality Housing and Work Responsibility Act of 1998 (42 U.S.C. 1437a(f)).

The Housing and Community Development Act of 1987 authorizes HUD to require applicants and participants in HUD-administered programs involving rental assistance to disclose to HUD their social security numbers (SSNs) as a condition of initial or continued eligibility for participation in the programs. Subsection 453(j) of the Social Security Act, as amended by Section 217 of the Consolidated Appropriations Act of 2004 (Pub. L. 108-199), authorizes HUD to provide to HHS information on persons participating in any programs authorized by:

(i) The United States Housing Act of 1937 (42 U.S.C. 1437 et seq.);

(ii) Section 202 of the Housing Act of 1959 (12 U.S.C. 1701q);

(iii) Section 221(d)(3), 221(d)(5) or 236 of the National Housing Act (12 U.S.C. 1715ld and 1715z-1);

(iv) Section 811 of the Cranston-Gonzalez National Affordable Housing Act (42 U.S.C. 8013); or

(v) Section 101 of the Housing and Urban Development Act of 1965 (12 U.S.C. 1701s).

HHS shall then compare this information provided by HUD with data contained in the National Directory of New Hires (NDNH) and report the results of the data match to HUD. The Act gives HUD the authority to disclose this information to PHAs, O/As, CAs under contract with HUD, the HUD/IG, and the Attorney General for the purpose of verifying the employment and income of individuals receiving benefits in the above programs. HUD shall not seek, use, or disclose information relating to an individual without the prior written consent of the individual, and HUD has the authority to require consent as a condition of participating in these programs.

HHS' disclosure of data from the NDNH is authorized by subsection 453(j) of the Social Security Act, as amended by Section 217 of the Consolidated Appropriations Act of 2004. The disclosures from the HHS system of records, “Location and Collection System of Records,” No. 09-90-0074, will be made pursuant to routine use (17) identified in the Federal Register on June 3, 2004 (69 FR 31399). This routine use authorizes HHS to “disclose to HUD information in the NDNH portion of this system for purposes of verifying employment and income of individuals participating in specified programs and, after removal of personal identifiers, to conduct analyses of the employment and income reporting of these individuals.”

II. Objectives To Be Met by the Matching Program

HUD's primary objective in implementing the computer matching program is to verify the employment and income of individuals participating in multifamily housing programs identified in paragraph I above to determine the appropriate level of rental assistance, and to deter and correct abuse in rental assistance programs. In meeting these objectives, HUD is also carrying out a responsibility under 42 U.S.C. Sec. 1437f(k) to ensure that income data provided to O/As and CAs by household members is complete and accurate. HUD's various rental assistance programs require that applicants meet certain income and other criteria to be eligible for rental assistance. In addition, tenants participating in multifamily housing programs generally are required to report and recertify the amounts and sources of their income at least annually.

III. Program Description

In this computer matching program, records from HUD's system of records, known as the EIV System, published at 71 FR 45066 on August 8, 2006, will be compared to OCSE's database NDNH. The NDNH contains new hire, quarterly wage and unemployment insurance information and is maintained in OCSE's system of records, “Location and Collection System”, No. 9-90-0074, last published at 70 FR 21200, April 25, 2005. HUD will only transmit to HHS for computer matching those tenant personal identifies (i.e., full name, SSN, and date of birth) that have been validated by the Social Security Administration (SSA). HHS will match the HUD-provided personal identifiers to personal identifiers included in their systems of records known as “Location and Collection System of Records,” No. 09-90-0074. HHS will provide income data to HUD only for individuals with matching personal identifiers. HUD will place matching data into EIV, which will receive: (1) New hires (W-4), wage, and unemployment insurance claim data from HHS' NDNH database; and (2) Social Security (SS) and Supplemental Security Income (SSI) benefits data from the SSA. This will allow PHAs and O/As to verify the income of tenants at the time of mandatory annual and/or interim recertifications.

A. Income Verification

Any match (i.e., a “hit”) will be further reviewed by HUD, the program administrator, or the HUD Office of Inspector General (OIG) to determine whether the income reported by tenants to the program administrator is correct and complies with HUD and program administrator requirements. Specifically, current or prior wage information and other data will be sought directly from employers.

B. Administrative or Legal Actions

Regarding the matching described in this notice, HUD anticipates that program administrators will take appropriate action in consultation with tenants to: (1) Resolve income discrepancies between tenant-reported and independent income source data; and (2) use correct income amounts in determining rental assistance, in accordance with Chapter 5, Sections 3 and 4 of the Occupancy Requirements of Subsidized Multifamily Housing Programs, 4350.3 REV-1. Program administrators must compute the rent in full compliance with all applicable occupancy regulations. Program administrators must ensure that they use the correct income and correctly compute the rent. The program administrator may not suspend, terminate, reduce, or make a final denial of any rental assistance to any tenant as a result of information produced by this matching program until: (a) The tenant has received notice from the program administrator of its findings and informing the tenant of the opportunity to contest such findings; and (b) either the notice period provided in applicable regulations of the program, or 30 days, whichever is later, has expired. In most cases, program administrators will resolve income discrepancies in consultation with tenants. Additionally, serious violations, which program administrators, HUD Program staff, or HUD/IG verify, should be referred for full investigation and appropriate civil and/or criminal proceedings.

IV. Records To Be Matched

HHS will match HUD-provided tenant SSNs and personal identifiers (such as surnames and dates of birth) in HUD's system of records known as EIV, amended August 8, 2006, 71 FR 45066 to NDNH records contained in its “Location and Collection System of Records”, No. 09-90-0074. HUD will place the resulting matched data into its EIV system. The tenant records (one record for each family member) include these data elements: Full name, SSN, and date of birth. Routine uses of records maintained in the system, including categories of users and purposes of such uses are identified in Federal Register Notice Privacy Act of 1974; Amendment to an Existing System of Records, Enterprise Income Verification, HUD/PIH 5 (71 FR 45066).

V. Period of the Match

The computer matching program will be conducted according to agreements between HUD and HHS. The computer matching agreement for the planned match will terminate either when the purpose of the computer matching program is accomplished, or 18 months from the date the agreement is signed, whichever comes first. The agreements may be extended for one 12-month period, with the mutual agreement of all involved parties, if the following conditions are met:

(1) Within 3 months of the expiration date, all Data Integrity Boards review the agreement, find that the program will be conducted without change, and find a continued favorable examination of benefit/cost results; and

(2) all parties certify that the program has been conducted in compliance with the agreement.

The agreement may be terminated prior to accomplishment of the computer matching purpose or 18 months from the date the agreement is signed (whichever comes first), by the mutual agreement of all involved parties within 30 days of written notice.

Authority: 5 U.S.C. 552a; 88 Stat. 1896; 42 U.S.C. 3535(d).

Dated: August 17, 2007.
Bajinder Paul,
Acting, Chief Information Officer.

[FR Doc. E7-17589 Filed 9-5-07; 8:45 am]

BILLING CODE 4210-67-P